DEPARTMENT OF EDUCATION

Meeting of the National Board for Education Sciences

AGENCY: National Board for Education Sciences, Institute of Education Sciences (IES), U.S. Department of Education.

ACTION: Notice of an open meeting.

SUMMARY: This notice sets forth the agenda, time, and instructions to access or participate in the National Board for Education Sciences (hereafter referred to as NBES or Board) virtual meeting scheduled for January 29, 2024. This notice provides information about the meeting to members of the public who may be interested in virtually attending the meeting and/or how to provide written comment(s).

ADDRESSES: The virtual meeting will be conducted virtually via Microsoft Teams.

DATES: The NBES meeting will be held on Monday, January 29, 2024, from 10 a.m.-4 p.m. (EST).

FOR FURTHER INFORMATION CONTACT: Ellie Pelaez, DFO for NBES, U.S. Department of Education, IES: 550 12th Street SW, Office 4126-1, Washington, DC 20202, telephone: (202) 987-0359, email: ellie.pelaez@ed.gov.

SUPPLEMENTARY INFORMATION: Notice of this meeting is required by section 1009(a)(2) of 5 U.S.C. chapter 10 (Federal Advisory Committees).

Statutory Authority and Function: The Board is authorized by section 116 of the Education Sciences Reform Act of 2002 (20 U.S.C. 9516). The Board is established as part of the U.S. Department of Education, IES, and shall, consistent with 20 U.S.C. 9514, 9515(b)-(c), and 9516 function as a board of directors for IES. The mission of IES is to provide national leadership in expanding fundamental knowledge and understanding of education from early childhood through postsecondary study, in order to provide parents, educators, students, researchers, policymakers, and the general public with reliable information about the condition and progress of education in the United States; educational practices that support learning and improve academic achievement and access to educational opportunities for all students; and the effectiveness of Federal and other education programs.

The Board's responsibilities are: (1) advise and consult with the Director of IES (Director) on the policies of IES; (2) consider and approve priorities proposed by the Director under 20 U.S.C. 9515 to guide the work of IES; (3) transmit approved priorities to the appropriate congressional committee (20 U.S.C. 9515(b)); (4) ensure that the priorities of IES and the National Education Centers are consistent with the mission of IES (20 U.S.C. 9515(c)); (5) review and approve procedures for technical and scientific peer review of the activities of IES; (6) advise the Director on the establishment of activities to be supported by IES, including the general areas of research to be carried out by the National Center for Education Research (NCER) and the National Center for Special Education Research (NCSER) (20 U.S.C. 9567); (7) present to the Director such recommendations as it may find appropriate for (a) the strengthening of education research, and (b) the funding of IES; (8) advise the Director on the funding of applications for grants, contracts, and cooperative agreements for research, after the completion of peer review; (9) review and regularly evaluate the work of IES, to ensure that scientifically valid research, development, evaluation, and statistical analysis are consistent with the standards for such activities under this title; (10) advise the Director on ensuring that activities conducted or supported by IES are objective, secular, neutral, and non-ideological, and are free of partisan political influence and racial, cultural, gender, or regional bias; (11) solicit advice and information from those in the educational field, particularly practitioners and researchers, to recommend to the Director topics that require long-term, sustained, systematic, programmatic, and integrated research efforts, including knowledge utilization and wide dissemination of research, consistent with the priorities and mission of IES; (12) advise the Director on opportunities for the participation in, and the advancement of, women, minorities, and persons with disabilities in education research, statistics, and evaluation activities of IES; (13) recommend to the Director ways to enhance strategic partnerships and collaborative efforts among other Federal and State research agencies; (14) recommend to the Director individuals to serve as Commissioners of the National Education Centers; and (15) make recommendations to the President with respect to the appointment of the Director.

Meeting Agenda: The agenda for the meeting is as follows: (1) Call to order and welcome remarks by the Chairwoman of the Board; (2) Member roll call; (3) Board member approval of meeting transcript from the December 4-5, 2023 meeting; (4) Board member approval of meeting agenda; (5) discussion of and voting on reports from NBES subcommittees; (6) Discussion of NBES policy priorities; (7) Meeting with a representative from Friends of IES to discuss how they can support NBES efforts; (8) Plan for NBES meetings in upcoming calendar year; (9) Closing remarks and adjournment.

Instructions for Accessing the Meeting: Members of the public interested in virtually attending this meeting may email the DFO listed in this notice no later than 11:59 p.m. eastern time (ET) on Wednesday, January 24, 2024. The DFO will provide a link and instructions on how to access the meeting via Microsoft Teams.

Public Comment: Members of the public interested in submitting written comments related to the work of NBES may do so by emailing the DFO listed in this notice no later than 11:59 p.m. ET on Wednesday, January 24, 2024. Written comments should pertain to the mission and function of NBES.

Reasonable Accommodations: The virtual meeting is accessible to individuals with disabilities. If you will need an auxiliary aid or service for the meeting (e.g., interpreting service, assistive listening device, or materials in an alternate format), notify the DFO listed in this notice no later than January 24th, 2024.

Access to Records of the Meeting: The official transcript of this meeting will be available for public review on the IES website, https://ies.ed.gov/director/board/index.asp, no later than 90 days after the meeting. Pursuant to 5 U.S.C. 1009(b), the public may also inspect NBES records at the U.S. Department of Education, IES, 550 12th Street SW, Washington, DC 20202, Monday-Friday, 8:30 a.m. to 5 p.m. ET. Please email ellie.pelaez@ed.gov to schedule an appointment.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 116 of the Education Sciences Reform Act of 2002 (20 U.S.C. 9516).

Mark Schneider,
Director, Institute of Education Sciences.

[FR Doc. 2024-00699 Filed 1-12-24; 8:45 am]

BILLING CODE 4000-01-P